DEPARTMENT OF COMMERCE

National Oceanic and Atmospheric Administration

RIN 0648-XG827

North Pacific Fishery Management Council; Public Meeting

AGENCY: National Marine Fisheries Service (NMFS), National Oceanic and Atmospheric Administration (NOAA), Commerce.

ACTION: Notice of telephonic meeting.

SUMMARY: The North Pacific Fishery Management Council (Council) Fishery Monitoring Advisory Committee Subgroup will hold a teleconference on March 27, 2019.

DATES: The teleconference will be held on Wednesday, March 27, 2019 from 12 p.m. to 4 p.m., Alaska Standard Time.

ADDRESSES: The meeting will be held telephonically. Teleconference number: (907) 271-2896.

Council address: North Pacific Fishery Management Council, 605 W 4th Ave., Suite 306, Anchorage, AK 99501-2252; telephone: (907) 271-2809.

FOR FURTHER INFORMATION CONTACT: Elizabeth Figus, Council staff; telephone: (907) 271-2801.

SUPPLEMENTARY INFORMATION:

Agenda

Wednesday, March 27, 2019

The agenda will be to: Finalize recommendations for how to potentially lower costs and increase observer coverage rates in the partial coverage observer category for groundfish and halibut fisheries, while maintaining: the data sufficient for managing the fisheries; randomized deployment; and, cost equity considerations among participants. This may include providing input on differential deployment base levels by gear type. If time allows, the subgroup may also discuss recommendations of the Observer Fee Analysis Initial Review document and other items at the discretion of the Chair.

The Agenda is subject to change, and the latest version will be posted at www.npfmc.org prior to the meeting, along with meeting materials.

Public Comment

Public comment letters will be accepted and should be submitted either electronically to Elizabeth Figus, Council staff: Elizabeth.figus@noaa.gov or through the mail: North Pacific Fishery Management Council, 605 W 4th Ave., Suite 306, Anchorage, AK 99501-2252.

Special Accommodations

These meetings are physically accessible to people with disabilities. Requests for sign language interpretation or other auxiliary aids should be directed to Shannon Gleason at (907) 271-2809 at least 7 working days prior to the meeting date.

Dated: February 15, 2019.
Tracey L. Thompson,
Acting Deputy Director, Office of Sustainable Fisheries, National Marine Fisheries Service.

[FR Doc. 2019-02963 Filed 2-20-19; 8:45 am]

BILLING CODE 3510-22-P